DEPARTMENT OF HEALTH AND HUMAN SERVICES

Centers for Disease Control and Prevention

Board of Scientific Counselors, Coordinating Center for Health Promotion (BSC, CCHP)

In accordance with section 10(a)(2) of the Federal Advisory Committee Act (Pub. L. 92-463), the Centers for Disease Control and Prevention (CDC) announces the following meeting of the aforementioned committee:

Time and Date: 8:30 a.m.-5 p.m., July 1, 2009.

Place: CDC, 1825 Century Boulevard, NE., Room 1042, Atlanta, Georgia 30345.

Status: Open to the public, limited only by the space available. The meeting room accommodates approximately 75 people.

Purpose: This BSC is charged with providing advice and guidance to the Secretary of Health and Human Services, the Director of CDC, and the Director of CCHP concerning strategies and goals for the programs and research within the National Center on Birth Defects and Developmental Disabilities and the National Center for Chronic Disease Prevention and Health Promotion.

Matters To Be Discussed: The agenda will include a review and discussion of charges to the BSC Work Groups. The Work Group projects include strategic planning and procedures for future external peer review of programs in the National Center on Birth Defects and Developmental Disabilities, and the National Center for Chronic Disease Prevention and Health Promotion. The BSC will also discuss results of its review of the National Center for Chronic Disease Prevention and Health Promotion as an organizational unit at CDC.

Providing Oral or Written Comments: It is the policy of the BSC, CCHP to provide a brief period for oral public comments. In general, each individual or group requesting to make an oral presentation will be limited to a total time of five minutes if time permits.

Contact Person for Additional Information: Karen Steinberg, PhD, Senior Science Officer, Coordinating Center for Health Promotion, CDC, 4770 Buford Highway, NE., Mailstop E-70, Atlanta, Georgia 30341; telephone (404) 498-6700; fax (404) 498-6880; or via e-mail at Karen.Steinberg@cdc.hhs.gov.

The Director, Management Analysis and Services Office, has been delegated the authority to sign Federal Register Notices pertaining to announcements of meetings and other committee management activities, for CDC and the Agency for Toxic Substances and Disease Registry.

Dated: June 4, 2009.
Lorenzo Falgiano,
Acting Director, Management Analysis and Services Office, Centers for Disease Control and Prevention.

[FR Doc. E9-13692 Filed 6-10-09; 8:45 am]

BILLING CODE 4163-18-P